DEPARTMENT OF TRANSPORTATION

Federal Aviation Administration

Harmonization Initiatives

AGENCY: Federal Aviation Administration, DOT.

ACTION: Notice of public meeting.

SUMMARY: The Federal Aviation Administration and the Joint Aviation Authorities will convene meetings to accept input from the public on the Harmonization Work Program. The Harmonization Work Program is the means by which the Federal Aviation Administration and the Joint Aviation Authorities carry out a commitment to harmonize, to the maximum extent possible, the rules regarding the operation and maintenance of civil aircraft, and the standards, practices, and procedures governing the design materials, workmanship, and construction of civil aircraft, aircraft engines, and other components.The purpose of this meeting is to provide an opportunity for the public to submit input to the Harmonization Work Program. This notice announces the date, time, location, and procedures for the public meetings.

DATES: The public meetings will be held on March 7 and 9, 2000, starting at 10:30 a.m. each day. Written comments are invited and must be received on or before February 29, 2000.

ADDRESSES: The public meeting will be held JAA Headquarters, Saturnusstraat 8-10, 2132 HB Hoofddorp. Persons unable to attend the meeting may mail their comments in triplicate to: Brenda Courtney, Federal Aviation Administration, Office of Rulemaking, ARM-200, 800 Independence Avenue, SW., Washington, DC 20591.

FOR FURTHER INFORMATION CONTACT: Requests to attend and present a statement at the meeting or questions regarding the logistics of the meeting should be directed to Brenda Courtney, Office of Rulemaking, 800 Independence Avenue, SW., Washington, DC 20591; telephone (202) 267-3327, telefax (202) 267-5075.

SUPPLEMENTARY INFORMATION: The Federal Aviation Administration and the Joint Aviation Authorities will convene meetings to accept input from the public on the Harmonization Work Program. The meetings will be held on March 7 and 9, 2000, at JAA Headquarters, Saturnusstraat 8-10, 2132 HB Hoofddorp.The meetings are scheduled to begin at 10:30 a.m. each day. The agenda for the meetings will include:

March 7, 2000

Review of Action Items from October 1999 HMT Meeting

Review of Action Items from the FAA/JAA 16th Annual Conference

General Session—Industry Issues and Concerns

March 9, 2000

General Session—Response to Industry Issues and Concerns

Meeting Procedures

The following procedures are established to facilitate the meetings:

(1) There will be no admission fee or other charges to attend or to participate in the meeting. The meetings will be open to all persons who have requested in advance to present statements or who register on the day of the meeting subject to availability of space in the meeting room.

(2) There will be morning and afternoon breaks and lunch breaks.

(3) The meetings may adjourn early if scheduled speakers complete their statements in less time than currently is scheduled.

(4) An individual, whether speaking in a personal or a representative capacity on behalf of an organization, may be limited to a 10-minute statement. If possible, we will notify the speaker if additional time is available.

(5) The FAA and JAA will try to accommodate all speakers. If the available time does not permit this, speakers generally will be scheduled on a first-come-first-served basis. However, speakers may be excluded if necessary to present a balance of viewpoints and issues.

(6) Representatives of the FAA and JAA will preside over the meetings.

(7) The FAA and JAA will review and consider all material presented by participants at the meetings. Position papers or material presenting views or information related to proposed harmonization initiatives may be accepted at the discretion of the FAA and JAA presiding officers. Persons participating in the meetings should provide five (5) copies of all materials to be presented for distribution to the panel members; other copies may be provided to the audience at the discretion of the participants.

(8) Statements made by members of the meeting panel are intended to facilitate discussion of the issues or to clarify issues. Any statement made during the meeting by a member of the panel is not intended to be, and should not be construed as, a position of the FAA or JAA.

(9) The meetings are designed to solicit public views and more complete information on proposed harmonization initiatives. Therefore, the meetings will be conducted in an informal and nonadversarial manner. No individual will be subject to cross-examination by any other participant; however, panel members may ask questions to clarify a statement and to ensure a complete and accurate record.

Issued in Washington, DC, on February 16, 2000.
Brenda D. Courtney,
Manager, Aircraft and Airport Rules Division.

[FR Doc. 00-4228 Filed 2-22-00; 8:45 am]

BILLING CODE 4910-13-M